DEPARTMENT OF STATE

[Public Notice: 9473]

Shipping Coordinating Committee; Notice of Public Meeting.

The Shipping Coordinating Committee (SHC) will conduct an open meeting at 9:00 a.m. on April 13, 2016, in Room 9-12 of the United States Department of Transportation building, located at 1200 New Jersey Ave SE., Washington, DC 20590. The primary purpose of the meeting is to prepare for the Sixty Ninth Session of the International Maritime Organization's (IMO) Marine Environment Protection Committee to be held at the IMO Headquarters, United Kingdom, from April 18-22, 2016.

The agenda items to be considered include:

—Adoption of the agenda

—Decisions of other bodies

—Consideration and adoption of amendments to mandatory instruments

—Harmful aquatic organisms in ballast water

—Air pollution and energy efficiency

—Further technical and operational measures for enhancing the energy efficiency of international shipping

—Reduction of GHG emissions from ships

—Amendments to MARPOL Annex V, Form of Garbage Record Book

—Use of electronic record books

—Identification and protection of Special Areas and PSSAs

—Inadequacy of reception facilities

—Pollution prevention and response (urgent matters emanating from the third session of the Sub-Committee)

—Reports of other sub-committees

—Promotion of implementation and enforcement of MARPOL and related instruments

—Technical cooperation activities for the protection of the marine environment

—Capacity building for the implementation of new measures

—Analysis and consideration of recommendations to reduce administrative burdens in IMO instruments as identified by SG-RAR

—Application of the Committees' Guidelines

—Work programme of the Committee and subsidiary bodies

—Any other business

—Consideration of the report of the Committee

Members of the public may attend this meeting up to the seating capacity of the room. To facilitate the building security process, and to request reasonable accommodation, those who plan to attend should contact the meeting coordinator, LCDR Tiffany Duffy, by email at tiffany.a.duffy@uscg.mil, by phone at (202) 372-1376, by fax at (202) 372-8382, or in writing at Commandant (CG-5PS), U.S. Coast Guard, 2703 Martin Luther King Jr. Ave. SE., Stop 7509, Washington, DC 20593-7509 not later than April 6, 2016. Requests made after April 6, 2016 might not be able to be accommodated. Please note that due to security considerations, two valid, government issued photo identifications must be presented to gain entrance to the Department of Transportation building. Department of Transportation building is accessible by taxi, privately owned conveyance and public transportation. However, parking in the vicinity of the building is extremely limited.

In the case of inclement weather where the U.S. Government is closed or delayed, a public meeting may be conducted virtually by calling (202) 475-4000 or 1-855-475-2447, Participant code: 887 809 72. The meeting coordinator will confirm whether the virtual public meeting will be utilized. Members of the public can find out whether the U.S. Government is delayed or closed by visiting www.opm.gov/status/. Additional information regarding this and other SHC public meetings may be found at: www.uscg.mil/imo.

Dated: March 7, 2016.
Jonathan W. Burby,
Executive Secretary, Shipping Coordinating Committee, Department of State.

[FR Doc. 2016-05677 Filed 3-11-16; 8:45 am]

BILLING CODE 4710-09-P